DEPARTMENT OF COMMERCE

International Trade Administration

[C-475-819]

Certain Pasta From Italy: Preliminary Results of the Countervailing Duty Administrative Review; 2011

AGENCY: Import Administration, International Trade Administration, Department of Commerce.

SUMMARY: The Department of Commerce (“Department”) is conducting an administrative review of the countervailing duty order on certain pasta from Italy. The period of review (“POR”) is January 1, 2011, through December 31, 2011. We preliminarily determine that Molino e Pastificio Tomasello S.p.A. (“Tomasello”) received countervailable subsidies during the POR, and that Delverde Industrie Alimentari S.p.A. (“Delverde”) and Valdigrano di Flavio Pagani S.r.L. (“Valdigrano”) received de minimis countervailable subsidies during the POR. Interested parties are invited to comment on the preliminary results.

DATES: Effective Date: August 13, 2013.

FOR FURTHER INFORMATION CONTACT: Joseph Shuler or Christopher Siepmann, AD/CVD Operations, Office 1, Import Administration, U.S. Department of Commerce, 14th Street and Constitution Avenue NW., Washington, DC 20230; telephone: (202) 482-1293 and (202) 482-7958, respectively.

SUPPLEMENTARY INFORMATION:

Scope of the Order

The scope of the order consists of certain pasta from Italy. The merchandise subject to the order is currently classifiable under items 1901.90.90.95 and 1902.19.20 of the Harmonized Tariff Schedule of the United States (“HTSUS”). Although the HTSUS subheadings are provided for convenience and customs purposes, the written description of the merchandise is dispositive. A full description of the scope of the order is contained in the “Decision Memorandum for Preliminary Results of Countervailing Duty Administrative Review: Certain Pasta from Italy,” from Christian Marsh, Deputy Assistant Secretary for Antidumping and Countervailing Duty Operations, to Paul Piquado, Assistant Secretary for Import Administration, dated August 2, 2013 (“Preliminary Decision Memorandum”), and hereby adopted by this notice.

The Preliminary Decision Memorandum is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the Preliminary Decision Memorandum can be accessed directly on the Internet at http://www.trade.gov/ia/. The signed Preliminary Decision Memorandum and the electronic versions of the Preliminary Decision Memorandum are identical in content.

Methodology

The Department has conducted this review in accordance with section 751(a)(1)(A) of the Tariff Act of 1930, as amended (“the Act”). For each of the subsidy programs found countervailable, we preliminarily determine that there is a subsidy, i.e., a government-provided financial contribution that gives rise to a benefit to the recipient, and that the subsidy is specific. See sections 771(5)(B) and (D) of the Act regarding financial contribution; section 771(5)(E) of the Act regarding benefit; and section 771(5A) of the Act regarding specificity. For a full description of the methodology underlying our conclusions, see Preliminary Decision Memorandum.

In making these findings, we have relied, in part, on an adverse inference in selecting from among the facts otherwise available because the Government of Italy did not act to the best of its ability to respond to the Department's requests for information regarding certain programs. See sections 776(a) and (b) of the Act. For further discussion, see Preliminary Decision Memorandum at “Use of Facts Otherwise Available and Adverse Inferences.”

Finally, we were not able to make a preliminary determination of countervailability for certain programs because we require further information. See Preliminary Decision Memorandum at “Programs for Which More Information is Required.” We intend to seek that information and address those programs in a post-preliminary analysis prior to our final results.

Preliminary Results of Review

In accordance with section 751(a)(1)(A) of the Act and 19 CFR 351.221(b)(4)(i), we calculated individual subsidy rates for the respondents, Delverde, Tomasello, and Valdigrano. For the period January 1, 2011, through December 31, 2011, we preliminarily find the net subsidy rates for the producers/exporters under review to be as follows:

Producer/Exporter | Net subsidy rate (percent)
Delverde Industrie Alimentari S.p.A. | .42
Molino e Pastificio Tomasello S.p.A. | 1.82
Valdigrano di Flavio Pagani S.r.L. | .35

Assessment Rates

If these preliminary net subsidy rates are adopted in the final results of the review, the Department will instruct U.S. Customs and Border Protection (“CBP”) to assess countervailing duties on POR entries in the amounts shown above, except that entries of merchandise produced and exported by Delverde and Valdigrano will be liquidated without regard to countervailing duties because their subsidies are de minimis. The Department intends to issue these assessment instructions to CBP 15 days after the date of publication of the final results of this review.

For all other companies that were not reviewed (except Barilla G. e R. F.lli S.p.A. and Gruppo Agricoltura Sana S.r.l., which are excluded from the order, and Pasta Lensi S.r.l., which was revoked from the order), the Department has directed CBP to assess countervailing duties on all entries between January 1, 2011, and December 31, 2011, at the rates in effect at the time of entry.

Cash Deposit Requirements

If the final results remain the same as these preliminary results, the Department will instruct CBP to collect cash deposits on shipments of the subject merchandise entered, or withdrawn from warehouse, for consumption on or after the date of publication of the final results of this review in the amounts shown above, except that cash deposits at zero percent will be required for entries from Delverde and Valdigrano because their rates are de minimis.

For non-reviewed companies, we will instruct CBP to continue to collect cash deposits of estimated countervailing duties at the most recent company-specific or country-wide rate applicable to the company. These cash deposit requirements, when imposed, shall remain in effect until further notice.

Disclosure and Public Comment

Pursuant to 19 CFR 351.224(b), the Department will disclose to parties to this proceeding the calculations performed in connection with these preliminary results not later than ten days after the date of the public announcement of this determination.

Interested parties may submit case and rebuttal briefs, and request a hearing in accordance with 19 CFR 351.309 and 351.310. For a schedule of the deadlines, see Preliminary Decision Memorandum.

Unless the deadline is extended pursuant to section 751(a)(3)(A) of the Act, the Department will issue the final results of this administrative review, including the results of our analysis of the issues raised by the parties in their comments, within 120 days after publication of these preliminary results.

We are issuing and publishing these results in accordance with sections 751(a)(1) and 777(i)(1) of the Act and 19 CFR 351.221(b)(4).

Dated: August 2, 2013.
Paul Piquado,
Assistant Secretary for Import Administration.

Appendix

List of Topics Discussed in the Preliminary Decision Memorandum

Scope of the Order

Use of Facts Otherwise Available and Adverse Inferences

Subsidies Valuation Information

Loan Benchmarks and Discount Rates

Analysis of Programs

I. Programs Preliminarily Determined To Be Countervailable

II. Programs Preliminarily Determined To Be Terminated

III. Programs Preliminarily Determined to be Non-Countervailable

IV. Programs For Which More Information Is Required

V. Programs Preliminarily Found to Be Not Used or that Provided No Benefit During the POR

[FR Doc. 2013-19617 Filed 8-12-13; 8:45 am]

BILLING CODE 3510-DS-P